DEPARTMENT OF COMMERCE

National Oceanic and Atmospheric Administration

RIN 0648-XE065

Marine Mammals; File No. 18903

AGENCY: National Marine Fisheries Service (NMFS), National Oceanic and Atmospheric Administration (NOAA), Commerce.

ACTION: Notice; receipt of application.

SUMMARY: Notice is hereby given that Peter Tyack, Ph.D., Senior Scientist Emeritus, Woods Hole Oceanographic Institution, 86 Water Street, Woods Hole, Massachusetts 02543, has applied in due form for a permit to conduct research on several species of cetaceans worldwide.

DATES: Written, telefaxed, or email comments must be received on or before September 8, 2015.

ADDRESSES: The application and related documents are available for review by selecting “Records Open for Public Comment” from the “Features” box on the Applications and Permits for Protected Species (APPS) home page, https://apps.nmfs.noaa.gov, and then selecting File No. 18903 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216).

The applicant requests a permit to take multiple cetacean species during research activities focused on cetacean behavior, sound production and responses to sound in U.S. waters of the North Atlantic and North Pacific Ocean and international waters near the Mediterranean Sea and the Bahamas. See tables in the permit application for annual numbers of takes by species, stock and activity. Researchers would take animals by harassment during close approaches with vessels for behavioral observations and photo-identification; attachment of suction-cup or implantable tags and marking with zinc oxide; biopsy sampling; and playbacks of natural and simulated sound. Playback takes involve conducting sound playback experiments where subjects whose responses are being measured will be exposed to specific sounds in a carefully controlled manner using a source level <197.4 dB re 1 microPa at 1 m. Incidental harassment of other species in the area may occur during playbacks and vessel surveys. Skin samples would be imported from foreign field sites to the United States for genetic analyses. The requested permit would be valid for five years from issuance.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 4, 2015.
Julia Harrison,
Chief, Permits and Conservation Division, Office of Protected Resources, National Marine Fisheries Service.

[FR Doc. 2015-19446 Filed 8-6-15; 8:45 am]

BILLING CODE 3510-22-P